NATIONAL SCIENCE FOUNDATION

Sunshine Act Meeting

Agency Holding Meeting: National Science Foundation, National Science Board, Committee on Strategy and Budget.

Date and Time: November 7, 2003, 2:30 p.m.-3:30 p.m., Open Session.

Place: The National Science Foundation, Stafford One Building, 4201 Wilson Boulevard, Room 130, Arlington, VA 22230.

Status: This meeting will be open to the public.

Matters to be Considered:

Friday, November 7, 2003

Open Session (2:30 p.m. to 3:30 p.m.)

Review of the Draft Report in Response to Section 22 of the NSF Authorization Act (December, 2002).

FOR FURTHER INFORMATION CONTACT: Michael P. Crosby, Executive Office, NSB, (703) 292-7000, http://www.nsf.gov/nsb.

Michael P. Crosby,
Executive Officer.

[FR Doc. 03-27488 Filed 10-28-03; 1:03 pm]

BILLING CODE 7555-01-M